DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR Part 67. The Agency has developed criteria for floodplain management in floodprone areas in accordance with 44 CFR Part 60.

Interested lessees and owners of real property are encouraged to review the proof Flood Insurance Study and FIRM available at the address cited below for each community. The BFEs and modified BFEs are made final in the communities listed below. Elevations at selected locations in each community are shown.

National Environmental Policy Act. This rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR Part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground *Elevation in feet (NGVD) +Elevation in feet (NAVD) Modified
U.S. Virgin Islands
Docket No.: FEMA-D-7660
U.S. Virgin Islands |  | Atlantic Ocean—St. John | Approximately 1,800 feet west of the intersection of Caheel Trail and North Shore Road | *6
|  |  | At Privateer Point | *25
|  | Caribbean Sea—St. John | Approximately 500 feet east of intersection of Pond Bay and Iguera Road | *4
|  |  | At Dittlit Point | *25
|  | Pillsbury Sound—St. John | Approximately 250 feet west of the intersection of North Shore Road and Pocket Money Lane | *6
|  |  | Approximately 600 feet south of the intersection of Idesephus Road and Azure Bay Road | *25
|  | Atlantic Ocean—St. Thomas | Thach Cay at Eva Point | *7
|  |  | Approximately 0.5 mile north of North Meander Place and Fortuna Road | *25
|  | Caribbean Sea—St. Thomas | Approximately 750 feet southwest of the intersection of Rue de Gregoire and Veteran Drive | *5
|  |  | Approximately 0.5 mile south of North Meander Road and Fortuna Road | *25
|  | Pillsbury Sound—St. Thomas | Approximately 1,000 feet east of the intersection of Smith Bay Road and Pavillion Road | *6
|  |  | Approximately 0.6 mile south of the intersection of Julian Jackson Road and Airport Road | *25
|  | Leeward Passage—St. Thomas | Approximately 1,200 feet east of the intersection of Suzzana Road and Smith Bay Road | *8
|  |  | At Coki Point | *23
|  | Caribbean Sea—St. Thomas | Approximately 0.6 mile southwest of the intersection of North Meander Road and Fortuna Road | #3
|  | Caribbean Sea—St. Croix | At the intersection of Crab Lane and Dyers Climb | *8
|  |  | At Protestant Cay | *19
|  | Gut No. 1 | At confluence with Christiansted Harbor | *12
|  |  | Approximately 430 feet upstream of the confluence with Christiansted Harbor | *17
|  | Gut No. 2 | At confluence with Christiansted Harbor | *13
|  |  | Approximately 880 feet upstream of the confluence with Christiansted Harbor | *19
|  | Gut No. 3 | At confluence with Christiansted Harbor | *11
|  |  | Approximately 800 feet upstream of the confluence with Christiansted Harbor | *18
|  | Gut No. 4 | At confluence with Altona Lagoon | *10
|  |  | Approximately 860 feet upstream of the confluence with Altona Lagoon | *11
|  | Gut No. 5 | At confluence with Caribbean Sea | *12
|  |  | Approximately 900 feet upstream of the confluence with Caribbean Sea | *15
|  | Gut No. 6 | At confluence with Caribbean Sea | *10
|  |  | Approximately 1,100 feet upstream of the confluence with Caribbean Sea | *13
|  | Salt River | At confluence with Sugar Bay | *10
|  |  | Approximately 650 feet upstream of the confluence with Sugar Bay | *10
|  | Turpentine Run | At confluence with Mangrove Lagoon | *11
|  |  | Approximately 960 feet upstream of the confluence with Mangrove Lagoon | *11
# Depth in feet above ground.
* National Geodetic Vertical Datum.
+ North American Vertical Datum.
ADDRESSES
U.S. Virgin Islands (Islands of St. Croix, St. Thomas, and St. John)
Maps available for inspection at the Office of the Tax Assessor and the Cadastral Section, 113 King Street, Christiansted, Virgin Islands.

Flooding source(s) | Location of referenced elevation | *Elevation in feet (NGVD) +Elevation in feet (NAVD) #Depth in feet above ground Modified | Communities affected
Granville County, North Carolina and Incorporated Areas
Docket Nos.: FEMA-D-7660 and D-7574
Aarons Creek | At the North Carolina/Virginia State boundary | +381 | Granville County (Unincorporated Areas).
| Approximately 3.2 miles upstream of Grassy Creek Virgilina Road | +414
Aycock Creek | At the confluence with Johnson Creek | +317 | Granville County (Unincorporated Areas).
| Approximately 1,880 feet upstream of Sanders Road | +360
Bearskin Creek | At the confluence with Grassy Creek | +414 | Granville County (Unincorporated Areas).
| Approximately 820 feet upstream of NC Highway 96 | +443
Beaverdam Creek | At the Granville/Wake County boundary | +262 | Granville County (Unincorporated Areas).
| Approximately 600 feet upstream of NC 56 | +318
Tributary 3 | At the confluence with Beaverdam Creek | +282 | Granville County (Unincorporated Areas).
| Approximately 0.9 mile upstream of Side Road | +319
Tributary 5 | At the confluence with Beaverdam Creek | +305 | Granville County (Unincorporated Areas).
| Approximately 0.4 mile upstream of the confluence with Beaverdam Creek | +314
Beech Creek | At the confluence with Kerr Reservoir (Johnson Creek) | +320 | Granville County (Unincorporated Areas).
| Approximately 0.7 mile upstream of the confluence with Kerr Reservoir (Johnson Creek) | +320
Blue Creek | At the confluence with Little Grassy Creek | +363 | Granville County (Unincorporated Areas).
| Approximately 0.9 mile upstream of Sam Hall Road | +405
Tributary 1 | At the confluence with Blue Creek | +402 | Granville County (Unincorporated Areas).
| Approximately 0.7 mile upstream of the confluence with Blue Creek | +414
Bollens Creek | At the confluence with Boul Creek | +321 | Granville County (Unincorporated Areas).
| Approximately 0.6 mile upstream of U.S. HWY 15 | +408
Boul Creek | At the confluence with the Tar River | +317 | Granville County (Unincorporated Areas).
| Approximately 1.3 miles upstream of the confluence of Bollens Creek | +358
Camp Creek | At the confluence with Knap of Reeds Creek | +376 | Granville County (Unincorporated Areas).
| At the Granville/Durham County boundary | +427
Cedar Branch | At the confluence with John H. Kerr Reservoir/Grassy Creek | +320 | Granville County (Unincorporated Areas).
| Approximately 1.1 miles upstream of the North Carolina/Virginia State boundary | +320
Cedar Creek | At the confluence with Robertson Creek | +279 | Granville County (Unincorporated Areas), City of Creedmoor.
| Approximately 1.3 miles upstream of Hayes Road | +313
Coon Creek | Approximately 200 feet upstream of the confluence with Fishing Creek | +343 | Granville County (Unincorporated Areas), City of Oxford.
| Approximately 100 feet upstream of Winding Oak Road | +450
Cozart Creek | Approximately 450 feet downstream of West B Street | +262 | Granville County (Unincorporated Areas).
| Approximately 1,900 feet upstream of Coley Road | +272
Tributary 1 | Approximately 250 feet downstream of Roycroft Road | +262 | Granville County (Unincorporated Areas).
| Approximately 1.5 miles upstream of U.S. 15 | +282
Tributary 2 | At the confluence with Cozart Creek Tributary 1 | +262 | Granville County (Unincorporated Areas).
| Approximately 0.9 mile upstream of the confluence with Cozart Creek Tributary 1 | +278
Tributary 3 | At the confluence with Cozart Creek Tributary 2 | +262 | Granville County (Unincorporated Areas).
| Approximately 0.5 mile upstream of Northside Road | +270
Cub Creek | At the confluence with the Tar River | +432 | Granville County (Unincorporated Areas).
| Approximately 600 feet upstream of George Sherman Road | +478
Tributary 1 | At the confluence with Cub Creek | +439 | Granville County (Unincorporated Areas).
| At the Granville/Person County boundary | +477
Deer Pond Branch | At the confluence with Spewmarrow Creek | +320 | Granville County (Unincorporated Areas).
| Approximately 0.5 mile upstream of the confluence with Spewmarrow Creek | +325
Dickens Creek | At the confluence with Knap of Reeds Creek | +360 | Granville County (Unincorporated Areas).
| Approximately 1,650 feet upstream of Little Mountain Road | +440
Fishing Creek | Approximately 700 feet upstream of Knotts Grove Road | +375 | Granville County (Unincorporated Areas), City of Oxford.
| Approximately 1,700 feet upstream of Interstate 85 | +409
Tributary 1 | Approximately 200 feet upstream of U.S. HWY 15 | +434 | Granville County (Unincorporated Areas), City of Oxford.
| Approximately 50 feet upstream of Sunset Avenue | +457
Fork Creek | At the confluence with the Tar River | +245 | Granville County (Unincorporated Areas).
| Approximately 500 feet upstream of Old Mill Farm Road | +342
Fox Creek | At the confluence with Shelton Creek | +433 | Granville County (Unincorporated Areas).
| Approximately 3.4 miles upstream of Sunset Road | +491
Gibbs Creek | At the confluence with the Tar River | +246 | Granville County (Unincorporated Areas).
| Approximately 4.9 miles upstream of Gray Rock Road | +376
Grassy Creek | At the North Carolina/Virginia State boundary | +320 | Granville County (Unincorporated Areas).
| Approximately 0.4 mile upstream of Noel Tuck Road | +539
Tributary 1 | At the confluence with John H. Kerr Reservoir (Grassy Creek) | +320 | Granville County (Unincorporated Areas).
| At the North Carolina/Virginia State boundary | +322
Tributary 2 | At the confluence with Grassy Creek | +475 | Granville County (Unincorporated Areas).
| Approximately 0.5 mile upstream of the confluence with Grassy Creek | +495
Tributary 3 | At the confluence with Grassy Creek | +497 | Granville County (Unincorporated Areas).
| Approximately 1,000 feet upstream of Walnut Grove Road | +518
Holman Creek | At Brogden Road | +288 | Granville County (Unincorporated Areas), City of Creedmoor.
| Approximately 700 feet upstream of State Route 1136 | +469
Tributary 1 | At the confluence with Holman Creek | +377 | Granville County (Unincorporated Areas), Town of Stem.
| Approximately 2,000 feet upstream of Tally Ho Road | +436
Tributary 2 | At the confluence with Holman Creek | +395 | Granville County (Unincorporated Areas).
| Approximately 0.4 mile upstream of the confluence with Holman Creek | +428
Tributary 3 | At the confluence with Holman Creek | +309 | Granville County (Unincorporated Areas).
| Approximately 0.7 mile upstream of the confluence with Holman Creek | +330
Howlett Creek | At the confluence with Little Island Creek | +363 | Granville County (Unincorporated Areas).
| Approximately 0.6 mile upstream of the confluence with Little Island Creek | +374 | Granville County (Unincorporated Areas).
Island Creek | At the North Carolina/Virginia State boundary | +289 | Granville County (Unincorporated Areas).
| Approximately 0.5 mile upstream of Rockwell Road | +363
Tributary 1 | At the confluence with Island Creek | +289 | Granville County (Unincorporated Areas).
| Approximately 0.8 mile upstream of the confluence with Island Creek | +299
Tributary 2 | At the confluence with Island Creek | +297 | Granville County (Unincorporated Areas).
| Approximately 0.7 mile upstream of the confluence with Island Creek | +312
Tributary 3 | At the confluence with Island Creek | +332 | Granville County (Unincorporated Areas).
| Approximately 0.5 mile upstream of the confluence with Island Creek | +353
Island Reservoir | Entire shoreline within Granville County | +289 | Granville County (Unincorporated Areas).
Jackson Creek | At the confluence with the Tar River | +366 | Granville County (Unincorporated Areas).
| Approximately 1.6 miles upstream of Old Route 75 | +441
John H. Kerr Reservoir | Entire shoreline within Granville County | +320 | Granville County (Unincorporated Areas).
Johnson Creek (into Grassy Creek) | At the confluence with Grassy Creek | +320 | Granville County (Unincorporated Areas).
| Approximately 0.4 mile upstream of Lee Yancey Road | +336
Johnson Creek (into Tar River) | Approximately 0.4 mile downstream of Tar River Road | +317 | Granville County (Unincorporated Areas).
| Approximately 1,100 feet downstream of Interstate 85 | +363
Johnson Creek Tributary | Approximately 1,700 feet downstream of Tar River Road | +316 | Granville County (Unincorporated Areas).
| Approximately 0.7 mile upstream of Tar River Road | +329
Jordan Creek Tributary 1 | At the confluence with Jordan Creek | +448 | Granville County (Unincorporated Areas), City of Oxford.
| Approximately 1.4 miles upstream of the confluence with Jordan Creek | +480
Tributary 2 | At the confluence with Jordan Creek | +448 | Granville County (Unincorporated Areas), City of Oxford.
| Approximately 0.7 mile upstream of the confluence with Jordan Creek | +462
Knap Creek Tributary | At the confluence with Lake Butner | +360 | Granville County (Unincorporated Areas).
| Approximately 700 feet upstream of Roberts Chapel Road | +419
Knap of Reeds Creek | At Roberts Chapel Road | +360 | Granville County (Unincorporated Areas).
| Approximately 0.7 mile upstream of Enon Road | +452
Tributary 1 | At the confluence with Knap of Reeds Creek | +422 | Granville County (Unincorporated Areas).
| Approximately 1.1 miles upstream of the confluence with Knap of Reeds Creek | +459
Tributary 2 | At the confluence with Knap of Reeds Creek | +446 | Granville County (Unincorporated Areas).
| Approximately 0.6 mile upstream of the confluence with Knap of Reeds Creek | +456
Knap Reed Tributary | At the confluence with Knap of Reeds Creek | +265 | Granville County (Unincorporated Areas).
| Approximately 1,000 feet downstream of Amed Road | +265
Ledge Creek | At the Granville/Wake County boundary | +263 | Granville County (Unincorporated Areas), Town of Stem, City of Creedmoor.
| Approximately 0.6 mile upstream of Little Mountain Road | +472
Tributary 2 | At the confluence with Ledge Creek | +267 | Granville County (Unincorporated Areas).
| Approximately 0.9 mile upstream of the confluence with Ledge Creek | +280
Tributary 3 | At the downstream side of U.S. 15 | +278 | Granville County (Unincorporated Areas), City of Creedmoor.
| Approximately 0.4 mile upstream of U.S. 15 | +311
Tributary 4 | Approximately 1,500 feet upstream of the confluence of Ledge Creek Tributary 3 | +279 | Granville County (Unincorporated Areas), City of Creedmoor.
| Approximately 1,150 feet upstream of Charles Street | +314
Lick Branch | At the confluence with Spewmarrow Creek | +320 | Granville County (Unincorporated Areas).
| Approximately 1.2 miles upstream of Tilley Road | +325
Little Grassy Creek | At the confluence with Grassy Creek | +335 | Granville County (Unincorporated Areas).
| Approximately 1.3 miles upstream of Gela Road | +417
Little Island Creek | At the confluence with Island Creek | +363 | Granville County (Unincorporated Areas).
| Approximately 1.5 miles upstream of Hill Airy Road | +433
Tributary 1 | At the confluence with Little Island Creek | +372 | Granville County (Unincorporated Areas).
| Approximately 640 feet upstream of Hill Airy Road | +405
Little Johnson Creek | At the confluence with Johnson Creek | +321 | Granville County (Unincorporated Areas).
| Approximately 1,400 feet upstream of Oak Hill Road | +394
Michael Creek | At the Granville/Vance County boundary | +337 | Granville County (Unincorporated Areas).
| Approximately 1.7 miles upstream of Rockwell Road | +387
Mill Creek | At the confluence with New Light Creek and West Prong | +294 | Granville County (Unincorporated Areas).
| Approximately 300 feet upstream of Woodland Church Road | +343
Mountain Creek | At the confluence with Grassy Creek | +355 | Granville County (Unincorporated Areas).
| Approximately 1.5 miles upstream of Cornwall Road | +412
New Light Creek | At the Granville/Wake County boundary | +283 | Granville County (Unincorporated Areas).
| At the confluence with Mill Creek and West Prong | +294
New Light Creek Tributary (Basin 3 Stream 8) | At the downstream Granville/Wake County boundary | +316 | Granville County (Unincorporated Areas).
| At the upstream Granville/Wake County boundary | +358
New Light Creek Tributary 4 | At the Granville/Wake County boundary | +283 | Granville County (Unincorporated Areas).
| Approximately 0.4 mile upstream of the Granville/Wake County boundary | +296
North Fork Tar River | At the confluence with the Tar River | +397 | Granville County (Unincorporated Areas).
| Approximately 1.1 miles upstream of the confluence of North Fork Tar River Tributary 2 | +468
Tributary 1 | At the confluence with North Fork Tar River | +397 | Granville County (Unincorporated Areas).
| Approximately 2.9 miles upstream of the confluence with North Fork Tar River | +459
Tributary 2 | At the confluence with North Fork Tar River | +445 | Granville County (Unincorporated Areas).
| Approximately 1.0 mile upstream of Bodie Currin Road | +458
Owen Creek | At the confluence with the Tar River | +387 | Granville County (Unincorporated Areas).
| Approximately 2.1 miles upstream of Harper Renn Road | +436
Picture Creek | At Central Avenue Extension | +283 | Granville County (Unincorporated Areas).
| Approximately 0.7 mile upstream of the confluence with Picture Creek Tributary | +344
Picture Creek Tributary | At the confluence with Picture Creek | +316 | Granville County (Unincorporated Areas).
| Approximately 0.5 mile upstream of the confluence with Picture Creek | +339
Reedy Branch | At the confluence with Beaverdam Creek | +271 | Granville County (Unincorporated Areas).
| Approximately 0.6 mile upstream of Country Lane | +333
Robertson Creek | At the confluence with Beaverdam Creek | +262 | Granville County (Unincorporated Areas), City of Creedmoor.
| Approximately 1.2 miles upstream of the confluence of Robertson Creek Tributary 2 | +308
Tributary 1 | At the confluence with Robertson Creek | +262 | Granville County (Unincorporated Areas).
| Approximately 0.8 mile upstream of Dove Road | +277
Tributary 2 | At the confluence with Robertson Creek | +295 | Granville County (Unincorporated Areas).
| Approximately 0.4 mile upstream of Moss Back Road | +305
Rocky Creek | At the confluence with the Tar River | +384 | Granville County (Unincorporated Areas).
| Approximately 2.9 miles upstream of James Royster Road | +431
Shelton Creek | At the confluence with the Tar River | +399 | Granville County (Unincorporated Areas).
| Approximately 1,250 feet upstream of Goshen Road | +529
Smith Creek | At the confluence with Beaverdam Creek | +262 | Granville County (Unincorporated Areas).
| Approximately 2.3 miles upstream of Lawrence Road | +371
Spewmarrow Creek | At the confluence with John H. Kerr Reservoir (Grassy Creek) | +320 | Granville County (Unincorporated Areas).
| Approximately 1.1 miles upstream of Herbert Faucette Road | +330
Tributary 1 | At the confluence with Spewmarrow Creek | +320 | Granville County (Unincorporated Areas).
| Approximately 1.2 miles upstream of the confluence with Spewmarrow Creek | +339
Syble Creek | At the Granville/Wake County boundary | +262 | Granville County (Unincorporated Areas).
| Approximately 0.8 mile upstream of U.S. 15 | +304
Tabbs Creek | Approximately 400 feet upstream of Tom Parham Road | +419 | Granville County (Unincorporated Areas).
| Approximately 0.6 mile upstream of Tom Parham Road | +426
Tar River | At the downstream County boundary | +245 | Granville County (Unincorporated Areas).
| At Granville/Person County boundary | +500
Tributary 2 | At the downstream side of Tom Hunt Road | +313 | Granville County (Unincorporated Areas).
| Approximately 1.3 miles upstream of Tom Hunt Road | +330
Tributary 3 | At the confluence with Tar River Tributary 2 | +314 | Granville County (Unincorporated Areas).
| Approximately 1.1 miles upstream of Tar River Tributary 2 | +334
Tributary 4 | At the confluence with the Tar River | +449 | Granville County (Unincorporated Areas).
| Approximately 1.2 miles upstream of Gene Hobgood Road | +493
West Prong | At the confluence with New Light Creek and Mill Creek | +294 | Granville County (Unincorporated Areas).
| Approximately 1.2 miles upstream of Graham Sherron Road | +357
West Prong Tributary | At the confluence with West Prong | +305 | Granville County (Unincorporated Areas).
| Approximately 650 feet upstream of Woodland Church Road | +356
# Depth in feet above ground.
* National Geodetic Vertical Datum.
+ North American Vertical Datum.
ADDRESSES
City of Creedmoor
Maps available for inspection at the City of Creedmoor Planning and Zoning Office, 111 Masonic Street, Creedmoor, North Carolina.
City of Oxford
Maps available for inspection at the City of Oxford Planning Department, 300 Williamsboro Street, Oxford, North Carolina.
Town of Stem
Maps available for inspection at the Town of Stem, 113 East Tally Ho Road, Stem, North Carolina.
Granville County (Unincorporated Areas)
Maps available for inspection at the Granville County Planning Department, 122 Williamsboro Street, Oxford, North Carolina.
Vance County, North Carolina and Incorporated Areas
Docket Nos.: FEMA-D-7660 and D-7550
Anderson Creek | At the confluence with John H. Kerr Reservoir | +320 | Vance County (Unincorporated Areas).
| Approximately 1.7 miles upstream of Anderson Creek Road | +329
Buffalo Creek (North) | At the confluence with Tar River | +228 | Vance County (Unincorporated Areas).
| Approximately 2.3 miles upstream of Dick Smith Road | +266
Cattail Creek | At the confluence with Sandy Creek | +329 | Vance County (Unincorporated Areas).
| Approximately 1.1 miles upstream of the confluence with Sandy Creek | +352
Crooked Run | At the confluence with John H. Kerr Reservoir | +320 | Vance County (Unincorporated Areas).
| Approximately 1.7 miles upstream of NC 39 | +326
Tributary 1 | At the confluence with Crooked Run | +320 | Vance County (Unincorporated Areas).
| Approximately 1.6 miles upstream of the confluence with Crooked Run | +327
Dickies Creek | At the confluence with Sandy Creek | +315 | Vance County (Unincorporated Areas).
| Approximately 0.4 mile upstream of the confluence with Sandy Creek | +320
Fishing Creek | At the Vance/Warren County boundary | +345 | Vance County (Unincorporated Areas).
| Approximately 0.8 mile upstream of the County boundary | +356
Flat Creek | At the confluence with John H. Kerr Reservoir | +320 | Vance County (Unincorporated Areas).
| Approximately 1.5 miles upstream of Kelly Road | +331
Gilliams Branch | At the Virginia/North Carolina State boundary | +289 | Vance County (Unincorporated Areas).
| Approximately 2.1 miles upstream of the Virginia/North Carolina State boundary | +295
Indian Creek | At the confluence with John H. Kerr Reservoir | +320 | Vance County (Unincorporated Areas), City of Henderson.
| Approximately 0.5 mile upstream of I-85 | +502
Island Creek | At the confluence with Island Reservoir | +289 | Vance County (Unincorporated Areas).
| Approximately 700 feet upstream of the confluence of Michael Creek | +303
Island Reservoir | Entire shoreline within the County | +289 | Vance County (Unincorporated Areas).
Joes Branch | At the confluence with Ruin Creek | +296 | Vance County (Unincorporated Areas).
| Approximately 1.2 miles upstream of Old County Road | +396
John H. Kerr Reservoir | Entire shoreline within the County | +320 | Vance County (Unincorporated Areas).
Tributary 3D | At the confluence with John H. Kerr Reservoir | +320 | Vance County (Unincorporated Areas).
| Approximately 0.6 mile upstream of the confluence of John H. Kerr Reservoir Tributary 3D-2 | +324
Tributary 3D-2 | At the confluence with John H. Kerr Reservoir 3D | +320 | Vance County (Unincorporated Areas).
| Approximately 0.5 mile upstream of the confluence with John H. Kerr Reservoir 3D | +323
Tributary 4 | At the confluence with John H. Kerr Reservoir | +320 | Vance County (Unincorporated Areas).
| Approximately 0.8 mile upstream of the confluence with John H. Kerr Reservoir | +322
Tributary 3D-1 | At the confluence with John H. Kerr Reservoir | +320 | Vance County (Unincorporated Areas).
| Approximately 0.7 mile upstream of the confluence with John H. Kerr Reservoir Tributary 3D | +326
Little Island Creek | At the confluence with Island Creek | +289 | Vance County (Unincorporated Areas).
| Approximately 2.0 miles upstream of Rice Road | +339
Tributary 1 | At the confluence with Little Island Creek | +289 | Vance County (Unincorporated Areas).
| Approximately 0.8 mile upstream of the confluence with Little Island Creek | +300
Long Creek | At the confluence with Tabbs Creek | +237 | Vance County (Unincorporated Areas).
| Approximately 1.1 miles upstream of Kittrell College Road | +291
Long Grass Branch | At the Virginia/North Carolina State boundary | +326 | Vance County (Unincorporated Areas).
| Approximately 1,400 feet upstream of Virginia/North Carolina State boundary | +346
Lynch Creek | At the Franklin/Vance County boundary | +333 | Vance County (Unincorporated Areas).
| Approximately 0.3 mile upstream of Gillburg Road | +347
Martin Creek | At the confluence with Sandy Creek | +343 | Vance County (Unincorporated Areas).
| Approximately 3.0 miles upstream of confluence with Sandy Creek | +429
Michael Creek | At the confluence with Island Creek | +301 | Vance County (Unincorporated Areas).
| Approximately 2.9 miles upstream of the confluence with Island Creek | +337
Nutbrush Creek | At the confluence with John H. Kerr Reservoir | +320 | Vance County (Unincorporated Areas), City of Henderson.
| Approximately 0.8 mile upstream of I-85 | +406
Tributary 1 | At the confluence with Nutbrush Creek | +331 | Vance County (Unincorporated Areas), City of Henderson.
| Approximately 1.2 miles upstream of the confluence with Nutbrush Creek | +416
Tributary 2 | At the confluence with Nutbrush Creek | +346 | Vance County (Unincorporated Areas), City of Henderson.
| Approximately 1,700 feet upstream of I-85 | +429
Tributary 2A | At the confluence with Nutbrush Creek Tributary 2 | +360 | Vance County (Unincorporated Areas), City of Henderson.
| Approximately 0.6 mile upstream of the confluence with Nutbrush Creek Tributary 2 | +400
Tributary 2B | At the confluence with Nutbrush Creek Tributary 2 | +368 | Vance County (Unincorporated Areas), City of Henderson.
| Approximately 0.4 mile upstream of I-85 | +466
Tributary 3 | At the confluence with Nutbrush Creek | +369 | City of Henderson.
| Approximately 200 feet upstream of Granite Street | +444
Tributary 3A | At the confluence with Nutbrush Creek Tributary 3 | +375 | City of Henderson.
| Approximately 0.4 mile upstream of Beckford Drive | +443
Tributary 3B | At the confluence with Nutbrush Creek Tributary 3 | +394 | City of Henderson.
| Approximately 700 feet upstream of Parkway Drive | +440
Red Bud Creek | At the confluence with Ruin Creek | +311 | Vance County (Unincorporated Areas), City of Henderson.
| Approximately 1.8 miles upstream of the confluence of Red Bud Creek Tributary | +362
Red Bud Creek Tributary | At the confluence with Red Bud Creek | +313 | Vance County (Unincorporated Areas), City of Henderson.
| Approximately 1.8 miles upstream of the confluence with Red Bud Creek | +375
Ruin Creek | At the confluence with Tabbs Creek | +261 | Vance County (Unincorporated Areas).
| Approximately 1.7 miles upstream of the confluence of Red Bud Creek | +344
Sandy Creek | Approximately 0.5 mile downstream of the confluence of Weaver Creek | +298 | Vance County (Unincorporated Areas), City of Henderson.
| Approximately 900 feet upstream of Highway 1 | +448
Tributary 11 | At the confluence with Sandy Creek | +403 | Vance County (Unincorporated Areas), City of Henderson.
| Approximately 700 feet upstream of Route 1 | +421
Tributary 12 | At the confluence with Sandy Creek Tributary 11 | +415 | City of Henderson.
| Approximately 0.4 mile upstream of the confluence of Sandy Creek Tributary 11 | +424
Tabbs Creek | Approximately 2.0 miles upstream of the confluence with Tar River | +237 | Vance County (Unincorporated Areas).
| Approximately 625 feet upstream of Old Watkins Road | +285
Tar River | At the Franklin/Vance County boundary | +228 | Vance County (Unincorporated Areas).
| Approximately 0.9 mile upstream of Green Hill Road | +245
Weaver Creek | At the confluence with Sandy Creek | +309 | Vance County (Unincorporated Areas).
| Approximately 0.5 mile upstream of Vicksboro Road | +349
# Depth in feet above ground.
* National Geodetic Vertical Datum.
+ North American Vertical Datum.
ADDRESSES
Vance County (Unincorporated Areas)
Maps are available for inspection the Vance County Code Enforcement and Planning Department, 122 Young Street, Suite B, Henderson, North Carolina.
City of Henderson
Maps are available for inspection at the Henderson City Hall, 180 South Beckford Drive, Henderson, North Carolina.
Warren County, North Carolina and Incorporated Areas
Docket Nos.: FEMA-D-7560 and D-7660
Bens Creek | At the downstream county boundary | +187 | Warren County (Unincorporated Areas).
| Approximately 850 feet upstream of Skinner Road | +265
Big Branch | At the confluence with Little Fishing Creek and Walkers Creek | +240 | Warren County (Unincorporated Areas).
| Approximately 1.1 miles upstream of the confluence with Little Fishing Creek and Walkers Creek | +250
Big Stone House Creek | At the confluence with Lake Gaston | +203 | Warren County (Unincorporated Areas).
| Approximately 3.2 miles upstream of Epworth Road | +240
Blue Mud Creek | At the confluence with Terrapin Creek | +227 | Warren County (Unincorporated Areas).
| At the confluence of West Branch | +274
Tributary 1 | At the confluence with Blue Mud Creek | +227 | Warren County (Unincorporated Areas).
| Approximately 570 feet upstream of the confluence of Blue Mud Creek Tributary 1A | +250
Tributary 1A | At the confluence with Blue Mud Creek Tributary 1 | +239 | Warren County (Unincorporated Areas).
| Approximately 750 feet upstream of the confluence with Blue Mud Creek Tributary 1 | +244
Bobs Branch | At the confluence with Fishing Creek | +176 | Warren County (Unincorporated Areas).
| Approximately 0.6 mile upstream of the confluence with Fishing Creek Warren County (Unincorporated Areas). | +180
Bridle Creek | At the confluence with Fishing Creek | +238 | Warren County (Unincorporated Areas).
| Approximately 3.2 miles upstream of the confluence with Fishing Creek | +304
Buffalo Branch | At the confluence with Shocco Creek | +254 | Warren County (Unincorporated Areas).
| Approximately 1.5 miles upstream of the confluence with Shocco Creek | +284
Buffalo Creek | At the confluence with Fishing Creek | +192 | Warren County (Unincorporated Areas).
| Approximately 1.2 miles upstream of Davis Bugg Road | +216
Cabin Branch | At the confluence with Shocco Creek | +223 | Warren County (Unincorporated Areas).
| Approximately 1.2 miles upstream of the confluence with Shocco Creek | +242
Cabin Branch (into Smith Creek) | At the confluence with Smith Creek | +240 | Warren County (Unincorporated Areas).
| Approximately 1.3 miles upstream of the confluence with Smith Creek | +257
Coleman Branch | At the confluence with Hawtree Creek | +203 | Warren County (Unincorporated Areas).
| Approximately 1.0 mile upstream of the confluence with Hawtree Creek | +217
Dowtins Creek | At the confluence with Walkers Creek | +261 | Warren County (Unincorporated Areas).
| Approximately 1.7 miles upstream of the confluence with Walkers Creek | +287
Ellington Branch | At the confluence with Little Deep Creek | +253 | Warren County (Unincorporated Areas).
| Approximately 1,200 feet upstream of the confluence with Little Deep Creek | +256
Fishing Creek | At the downstream county boundary | +165 | Warren County (Unincorporated Areas).
| At the upstream county boundary | +345
Gum Pond Branch | At the confluence with Fishing Creek | +200 | Warren County (Unincorporated Areas).
| Approximately 0.8 mile upstream of the confluence with Fishing Creek | +208
Gunters Creek | At the confluence with Fishing Creek | +181 | Warren County (Unincorporated Areas).
| Approximately 150 feet downstream of Tutelo Road | +198
Hawtree Creek | Approximately 700 feet downstream of Peete Farm Road | +203 | Warren County (Unincorporated Areas).
| Approximately 1,400 feet upstream of the confluence of Hawtree Creek Tributary 5 | +270
Tributary 1 | At the confluence with Hawtree Creek | +203 | Warren County (Unincorporated Areas).
| Approximately 1.0 mile upstream with the confluence with Hawtree Creek | +224
Tributary 2 | At the confluence with Hawtree Creek | +211 | Warren County (Unincorporated Areas).
| Approximately 1,700 feet upstream of the confluence with Hawtree Creek | +220 | Warren County (Unincorporated Areas).
Tributary 3 | At the confluence with Hawtree Creek | +229 | Warren County (Unincorporated Areas).
| Approximately 0.5 mile upstream of the confluence with Hawtree Creek | +243
Tributary 4 | At the confluence with Hawtree Creek | +243 | Warren County (Unincorporated Areas).
| Approximately 1,400 feet upstream of Boyd Stegall Road | +250
Tributary 5 | At the confluence with Hawtree Creek | +264 | Warren County (Unincorporated Areas).
| Approximately 430 feet upstream of Waviely Thompson Road | +272
Hogpen Branch | At the confluence with Fishing Creek | +176 | Warren County (Unincorporated Areas).
| Approximately 1.2 miles upstream of the confluence with Fishing Creek | +190
Horse Creek | At the confluence with Fishing Creek | +251 | Warren County (Unincorporated Areas).
| Approximately 0.3 mile upstream of the confluence with Fishing Creek | +253
Horsepen Branch | At the confluence with Shocco Creek | +242 | Warren County (Unincorporated Areas).
| Approximately 1.2 miles upstream of the confluence with Shocco Creek | +258
Hubquarter Creek | At the confluence with Lake Gaston | +203 | Warren County (Unincorporated Areas).
| Approximately 2.0 miles upstream of Flemming Mill Road | +254
Tributary 1 | At the confluence with Hubquarter Creek | +211
| Approximately 1.5 miles upstream of Flemming Mill Road | +269
John H. Kerr Reservoir | Entire shoreline within County | +320 | Warren County (Unincorporated Areas).
Jordan Creek | At the confluence with Lake Gaston | +203 | Warren County (Unincorporated Areas).
| Approximately 1.7 miles upstream of Wise Five-Forks Road | +251
Keats Branch | At the confluence with John H. Kerr Reservoir | +320 | Warren County (Unincorporated Areas).
| Approximately 0.4 mile upstream of the confluence with John H. Kerr Reservoir | +328
Lake Gaston | Entire shoreline west of Eaton Ferry Road | +203 | Warren County (Unincorporated Areas).
Lees Branch | At the confluence with Shocco Creek | +284 | Warren County (Unincorporated Areas).
| Approximately 630 feet upstream of Pinnel Road | +324
Little Deep Creek | At the confluence with Smith Creek | +230 | Warren County (Unincorporated Areas).
| Approximately 0.4 mile upstream of the confluence of Ellington Branch | +259
Little Fishing Creek | Approximately 300 feet downstream of the confluence of Bens Creek | +185 | Warren County (Unincorporated Areas).
| At the confluence of Big Branch and Walkers Creek | +240
Tributary 2 | At the downstream county boundary | +241 | Warren County (Unincorporated Areas).
| Approximately 0.3 mile upstream of the county boundary | +246
Tributary 4 | At the downstream county boundary | +190 | Warren County (Unincorporated Areas).
| Approximately 930 feet upstream of Long School Road | +244
Little Shocco Creek | At the confluence with Shocco Creek | +206 | Warren County (Unincorporated Areas).
| Approximately 2.2 miles upstream of Rod Alston Road | +258
Little Stone House Creek | At the upstream side of Shawspring Road | +258 | Warren County (Unincorporated Areas).
| Approximately 0.6 mile upstream of Shawspring Road | +214
Long Branch | At the confluence with Fishing Creek | +192 | Warren County (Unincorporated Areas).
| Approximately 0.4 mile upstream of Otis Clark Road | +217
Maple Branch | At the confluence with Fishing Creek | +168 | (Warren County Unincorporated Areas)
| Approximately 0.6 mile upstream of Maple Road | +206
Matthews Creek | At the confluence with Fishing Creek | +291 | Warren County (Unincorporated Areas).
| Approximately 1.7 miles upstream of Manson Axtell Road | +335
Mill Branch | At the confluence with Fishing Creek | +207 | Warren County (Unincorporated Areas).
| Approximately 800 feet upstream of Gum Pond Road | +213
Mill Creek | At the confluence with Lake Gaston | +203 | Warren County (Unincorporated Areas)
| At the North Carolina/Virginia border | +214
Owens Creek | At the confluence with Fishing Creek | +268 | Warren County (Unincorporated Areas).
| Approximately 2.3 miles upstream of Ridgeway Road | +358
Phoebes Creek | At the confluence with Fishing Creek | +264 | Warren County (Unincorporated Areas).
| Approximately 400 feet downstream of Martin Luther King Boulevard | +210
Porter Creek | At the county boundary | +228 | Warren County (Unincorporated Areas).
| Approximately 0.3 mile upstream of the county boundary | +232
Possumquarter Creek | At the confluence with Fishing Creek | +234 | Warren County (Unincorporated Areas).
| Approximately 2.0 miles upstream of Baltimore Church Road | +258
Reedy Branch | At the confluence with Fishing Creek | +187 | Warren County (Unincorporated Areas).
| Approximately 0.9 miles upstream of the confluence with Fishing Creek | +196
Reedy Creek | Approximately 100 feet upstream of the county boundary | +179 | Warren County (Unincorporated Areas).
| Approximately 0.5 miles upstream of Airport Road | +367
Reedy Creek (into John H. Kerr Reservoir) | At the North Carolina/Virginia border | +219 | Warren County (Unincorporated Areas).
| Approximately 1.3 miles upstream of North Carolina/Virginia border | +251
Richneck Creek | At the confluence with Fishing Creek | +234 | Warren County (Unincorporated Areas).
| Approximately 150 feet downstream of Limer Town Road | +277
Tributary 1 | At the confluence with Fishing Creek | +249 | Warren County (Unincorporated Areas).
| Approximately 1.2 miles upstream of the confluence with Richneck Creek | +283
Roanoke River Tributary 18 | At the confluence with Lake Gaston | +203 | Warren County (Unincorporated Areas).
| Approximately 0.6 mile upstream of the confluence with Lake Gatson | +250
Rocky Branch | At the confluence with Hawtree Creek | +213 | Warren County (Unincorporated Areas).
| Approximately 1.1 miles upstream of the confluence with Hawtree Creek | +233
Sandy Creek | At the downstream county boundary | +280 | Warren County (Unincorporated Areas).
| At the upstream county boundary | +298
Sauls Creek | At the confluence with Hawtree Creek | +224 | Warren County (Unincorporated Areas).
| Approximately 0.5 miles upstream of the confluence with Hawtree Creek | +231
Shocco Creek | At the confluence with Fishing Creek | +166 | Warren County (Unincorporated Areas).
| Approximately 2.7 miles upstream of Shepard Road | +313
Tributary 1 | At the confluence with Shocco Creek | +210 | Warren County (Unincorporated Areas).
| Approximately 1.3 miles upstream of the confluence with Shocco Creek | +232
Sixpound Creek | At the confluence with Lake Gaston | +203 | Warren County (Unincorporated Areas).
| Approximately 3.1 miles upstream of Wise Five-Forks Road | +253
Smith Creek | Approximately 1,400 feet downstream of U.S. Route 1 | +222 | Warren County (Unincorporated Areas).
| Approximately 0.5 miles upstream of Ridgeway Drewry Road | +308
Tributary 1 | At the confluence with Smith Creek | +224 | Warren County (Unincorporated Areas).
| Approximately 2.2 miles upstream of the confluence with Smith Creek | +253
Tributary 1A | At the confluence with Smith Creek Tributary 1 | +239 | Warren County (Unincorporated Areas).
| Approximately 0.3 miles upstream of the confluence with Smith Creek Tributary 1 | +254
Tributary 2 | At the confluence with Smith Creek | +224 | Warren County (Unincorporated Areas).
| Approximately 0.8 miles upstream of the confluence with Smith Creek | +241
Tributary 3 | At the confluence with Smith Creek | +275 | Warren County (Unincorporated Areas).
| Approximately 0.3 miles upstream of the confluence with Smith Creek | +279
Tributary 4 | At the confluence with Smith Creek | +278 | Warren County (Unincorporated Areas).
| Approximately 0.9 miles upstream of the confluence with Smith Creek | +304
Tributary 5 | At the confluence with Smith Creek | +298 | Warren County (Unincorporated Areas).
| Approximately 0.5 mile upstream of the confluence with Smith Creek | +306
Terrapin Creek | At the confluence with Smith Creek | +223 | Warren County (Unincorporated Areas).
| Approximately 1,700 feet upstream of Beaver Dam Road | +260
Tributary 1 | At the confluence with Terrapin Creek | +223 | Warren County (Unincorporated Areas).
| Approximately 1,200 feet upstream of the confluence with Terrapin Creek | +229
Walkers Creek | At the confluence with Little Fishing Creek and Big Branch | +240 | Warren County (Unincorporated Areas).
| Approximately 700 feet upstream of Airport Road | +278
Walkers Creek Tributary | At the confluence with Walkers Creek | +251 | Warren County (Unincorporated Areas).
| Approximately 0.7 miles upstream of the confluence with Walkers Creek | +267
West Branch | At the confluence with Blue Mud Creek | +274 | Warren County (Unincorporated Areas), Town of Norlina.
| Approximately 2.0 miles upstream of the confluence with Blue Mud Creek | +349
# Depth in feet above ground.
* National Geodetic Vertical Datum.
+ North American Vertical Datum.
ADDRESSES
Town of Norlina
Maps are available for inspection at the Norlina Town Hall, 101 Main Street, Norlina, North Carolina.
Warren County (Unincorporated Areas)
Maps available for inspection at the Warren County Planning and Zoning Office, 542 West Ridgeway Street, Warrenton, North Carolina.

[?USGPO Galley End:

(Catalog of Federal Domestic Assistance No. 83.100, “Flood Insurance.”)

Dated: November 6, 2006.
David I. Maurstad,
Director, Mitigation Division. Federal Emergency Management Agency, Department of Homeland Security.

[FR Doc. E6-19114 Filed 11-13-06; 8:45 am]

BILLING CODE 9110-12-P